DEPARTMENT OF THE INTERIOR

Fish and Wildlife Service

[FWS-R1-R-2011-N152; 1265-0000-10137-S3]

Conboy Lake National Wildlife Refuge, Klickitat County, WA; Draft Comprehensive Conservation Plan and Environmental Assessment

AGENCY: Fish and Wildlife Service, Interior.

ACTION: Notice of availability; request for comments.

SUMMARY: We, the U.S. Fish and Wildlife Service (Service), announce the availability of a draft comprehensive conservation plan (CCP) and environmental assessment (EA) for Conboy Lake National Wildlife Refuge (NWR or refuge) in Klickitat County, Washington. The draft CCP/EA describes our proposals for managing the refuge for the next 15 years.

DATES: To ensure consideration, please send your written comments by February 18, 2014.

ADDRESSES: Send your comments or requests for more information by any of the following methods:

• Email: mcriver@fws.gov. Include “Conboy Lake NWR CCP” in the subject line of the message.

• Fax: Attn: Conboy Lake NWR CCP, (509) 546-8303.

• U.S. Mail: Mid-Columbia River National Wildlife Refuge Complex, Conboy Lake NWR CCP, 64 Maple Street, Burbank, WA 99323.

• In-Person Drop-off: You may drop off comments during regular business hours at the above address.

FOR FURTHER INFORMATION CONTACT: Rich Albers, Refuge Manager, Conboy Lake National Wildlife Refuge, (509) 546-8317; rich_albers@fws.gov.

SUPPLEMENTARY INFORMATION:

Introduction

With this notice, we continue the CCP process for Conboy Lake NWR. We started this process through a notice in the Federal Register (76 FR 41286; July 13, 2011).

Conboy Lake National Wildlife Refuge encompasses approximately 7,000 acres in Klickitat County, Washington. The refuge exists in the transition zone between arid eastern Washington and wet western Washington, near the southern base of Mt. Adams. The refuge manages wet prairie, emergent marsh, scrub-shrub, and forest land habitats. Conboy Lake NWR is managed with special emphasis on greater Sandhill cranes, Oregon spotted frogs, Mardon skippers, Ames' milk-vetch, and Oregon coyote thistle.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Public Outreach

A press release was sent to all media outlets in the area on June 1, 2011, and we held a public open house on June 14, 2011. A Federal Register notice announcing our intent to develop a CCP was published July 13, 2011. Our public scoping period began July 13, 2011, and ended August 12, 2011. We then mailed a planning update in September 2011 which outlined the comments received from the public and other organizations. We also solicited input from other Federal, State, and local agencies and tribes on issues of concern. Comments were considered and incorporated into the draft CCP/EA.

CCP Alternatives We Are Considering

To address the issues raised during the public scoping process, we developed and evaluated the following alternatives, briefly summarized below. A full description of each alternative is in the EA.

Alternative 1: No-Action

Under Alternative 1, we would continue with current management of the refuge. Most management actions are aimed at protection, enhancement, and restoration of habitats. We would continue the current water flooding/drawdown regime. Haying would be used to control invasive reed canarygrass in meadow habitats, and meadows would continue to benefit from tree removal measures. Excess vegetation would be removed in all aquatic habitats. Prescribed fire and other integrated pest management techniques would continue to control invasive species.

Visitor services would continue in limited capacities. Wildlife observation and photography would still occur on limited parts of the refuge. Hunting and fishing would remain as-is. Cultural resources would continue to be protected as mandated by law and policy.

Alternative 2: Potential Changes

Under Alternative 2, grazing would be added to haying to control reed canarygrass. An aggressive bullfrog and bullhead fish control program would be implemented. Actively creating snags in all forest types would occur to benefit insectivorous birds, including woodpeckers, and cavity-nesting species. Forest thinning would allow for structural diversity and regeneration of understory species and young trees.

The Willard Springs Trail would be realigned, lengthened, and given a new interpretive emphasis. Environmental education would receive greater attention. The recruitment and use of volunteers would be expanded for all visitor services, especially education. New exhibits would be installed at refuge headquarters and along the Willard Springs Trail, Observation Overlook, and the Whitcomb-Cole Hewn Log House. Hunting and fishing would remain the same, with the exception of eliminating deer hunting.

Additional cultural resources activities would take place, including a resources overview, establishing new tribal partnerships, evaluating the National Register eligibility of archeological sites, and developing a new inadvertent discovery plan.

Public Availability of Documents

In addition to the methods listed in ADDRESSES, the draft CCP/EA may be obtained or viewed at our Web site at www.fws.gov/refuge/conboy_lake/ and the following libraries:

• Hood River Library, 502 W State St., Hood River, OR 97031

• White Salmon Valley Community Library, 77 NE Wauna Ave., White Salmon, WA 98672

• Foley Center Library, Gonzaga University, 502 E Boone Ave., Spokane, WA 99258-0095

Public Comments

There will be additional opportunities to provide public input throughout the CCP process; they will be announced in press releases, planning updates, and on our Web site at www.fws.gov/refuge/conboy_lake/.

Public Availability of Comments

Before including your address, phone number, email address, or other personal identifying information in your comment, you should be aware that your entire comment—including your personal identifying information—may be made publicly available at any time. While you can ask us in your comment to withhold your personal identifying information from public review, we cannot guarantee that we will be able to do so.

Dated: January 6, 2014.
Richard Hannan,
Acting Regional Director, Pacific Region, Portland, Oregon.

[FR Doc. 2014-00246 Filed 1-15-14; 8:45 am]

BILLING CODE 4310-55-P